DEPARTMENT OF ENERGY

Federal Energy Regulatory Commission

[Docket No. ER00-1519-000]

InPower Marketing Corporation; Notice of Issuance of Order

April 10, 2000.

InPower Marketing Corporation (InPower) filed with the Commission a rate schedule that would permit entities (Independent Power Producers, hereafter “IPPs”) that own generation to meet their own on-site demands or for back-up purposes to sell power at market-based rates to InPower.¹ InPower's filing, on behalf of yet-to-be-identified IPPs, requested certain waivers and authorizations. In particular, InPower requested that the Commission grant blanket approval under 18 CFR part 34 of all future issuances of securities and assumptions of liabilities by eligible IPPs. On March 30, 2000, the Commission issued an Order Accepting For Filing Proposed Market-Based Rate Schedule And Granting Waivers (Order), in the above-docketed proceeding.

¹ On October 12, 1999, in Docket No. ER99-3964-000, InPower was authorized to sell power under market-based rates (unpublished letter order issued by the Director of the Division of Rate Applications, Office of Electric Power Regulation).

The Commission's March 30, 2000 Order granted the request for blanket approval under Part 34, subject to the conditions found in Ordering Paragraphs (D), (E), and (G):

(D) Within 30 days of the date of this order, any person desiring to be heard or to protest the Commission's blanket approval of issuances of securities or assumptions of liabilities by eligible IPPs should file a motion to intervene or protest with the Federal Energy Regulatory Commission, 888 First Street, NE, Washington, DC 20426, in accordance with Rules 211 and 214 of the Commission's Rules of Practice and Procedure, 18 CFR 385.211 and 385.214.

(E) Absent a request to be heard within the period set forth in Ordering Paragraph (D) above, eligible IPPs are hereby authorized to issue securities and assume obligations and liabilities as guarantor, indorser, surety or otherwise in respect of any security of another person; provided that such issue or assumption is for some lawful object within the corporate purposes of IPPs compatible with the public interest, and reasonably necessary or appropriate for such purposes.

(G) The Commission reserves the right to modify this order to require a further showing that neither public nor private interests will be adversely affected by continued Commission approval of eligible IPPs' issuances of securities or assumptions of liabilities . * * .

Notice is hereby given that the deadline for filing motions to intervene or protests, as set forth above, is May 1, 2000.

Copies of the full text of the Order are available from the Commission's Public Reference Branch, 888 First Street, NE, Washington, DC 20426. The Order may also be viewed on the Internet at http://www.ferc. fed.us/online/rims.htm (call 202-208-2222 for assistance).

David P. Boergers,
Secretary.

[FR Doc. 00-9312 Filed 4-13-00; 8:45 am]

BILLING CODE 6717-01-M